DEPARTMENT OF THE INTERIOR

National Park Service

National Register of Historic Places; Notification of Pending Nominations

Nominations for the following properties being considered for listing in the National Register were received by the National Park Service before February 5, 2000. Pursuant to section 60.13 of 36 CFR Part 60 written comments concerning the significance of these properties under the National Register criteria for evaluation may be forwarded to the National Register, National Park Service, 1849 C St. NW., NC400, Washington, DC 20240. Written comments should be submitted by March 1, 2000.

Carol D. Shull,
Keeper of the National Register.

ALASKA

Nome Borough-Census Area

Old St. Joseph's Catholic Church, Bering and Seppala Sts., Nome, 00000149

ARKANSAS

Crawford County

Chester Masonic Lodge and Community Building, Jct. of Front and Dickson Sts., Chester, 00000150

FLORIDA

Duval County

Elks Club Building, (Downtown Jacksonville MPS), 201-213 N. Laura St., Jacksonville, 00000151

GEORGIA

Webster County

Webster County Jails, Unnamed city street at the jct. of Cass St. and Old Post Office Rd., Preston, 00000152

ILLINOIS

Cook County

Somerset Hotel,

1152-1154 S. Wabash Ave., Chicago, 00000153

IOWA

Woodbury County

Newton, James P., House and Maid Cottage, 2312 Nebraska St., Sioux City, 00000154

KANSAS

Ellis County

Ellis Congregational Church, Eighth and Washington Sts., Ellis, 00000156

Finney County

Hope House, 1112 Gillespie Place, Garden City, 00000157

Little Finnup House, 401 N. Ninth St., Garden City, 00000155

Leavenworth County

Hund School, 31874 179th St., Leavenworth, 00000158

Saline County

Masonic Temple, 336 S. Santa Fe Ave., Salina, 00000192

LOUISIANA

East Baton Rouge Parish

Highland Stockade, Address Restricted, Baton Rouge, 00000191

Livingston Parish

Walker High School, 13443 Burgess Ave., Walker, 00000159

MASSACHUSETTS

Suffolk County

Fulton-Commercial Streets Historic District (Boundary Increase),

81-95 Richmond St., Boston, 00000160

MONTANA

Chouteau County

West Quincy Granite Quarry, Flat Creek Rd., Square Butte, 00000163

Fergus County

Lewistown Satellite Airfield Historic District, US 87, Lewistown, 00000162

NEBRASKA

Adams County

Heartwell Park Historic District, 105-106 Lakeside Dr. 110-602 Forest Blvd., and 923 and 1109 N. Elm St., Hastings, 00000168

McCue—Trausch Farmstead, Address Restricted, Hastings, 00000165

Boone County

St. Anthony's Church and School, 514 W. Main St. and 103 N 6th St., Cedar Rapids, 00000172

Douglas County

Farnam Building, 1607-1617 Farnam St., Omaha, 00000171

Keeline Building, 319 S 17th St., Omaha, 00000170

Moses, G.C., Block, 1234-1244 S 13th St., Omaha, 00000169

Red Willow County

McCook YMCA, 424 Norris Ave., McCook, 00000167

Sioux County

Sandford Dugout, Address Restricted, Mitchell, 00000166

NEW JERSEY

Essex County

Pine Street Historic District, Roughly bounded by Glenridge Ave., the NJ TRANSIT Boonton Line, Pine and Baldwin Sts., Montclair, 00000175

Hunterdon County

Readingsburg Historic District, Cokesbury and Stone Mill Rds., NJ 639, Clinton, 00000176

NEW YORK

Wayne County

Gates Hall and Pultneyville Public Square, Lake Rd., Pultneyville, 00000177

NORTH CAROLINA

Warren County

Warren County Fire Tower, 4.5 mi. S of Warrenton on NC 58 S, Liberia, 00000164

OHIO

Cuyahoga County

Harp Apartments, 1389 W. 64th St., Cleveland, 00000180

White Chewing Gum Company Building, 10307 Detroit Ave., Cleveland, 00000181

Vinton County

Masonic Lodge #472, 18 Commercial St., Zaleski, 00000182

OKLAHOMA

Canadian County

El Reno High School, 405 S. Choctaw, El Reno, 00000179

El Reno Municipal Swimming Pool Bath House, 715 S. Morrison, El Reno, 00000178

SOUTH DAKOTA

Brown County

South Dakota Dept. of Transportation Bridge No. 07-009-060, (Historic Bridges in South Dakota MPS), Local Rd. over Elm Dam Spillway, Frederick, 00000185

South Dakota Dept. of Transportation Bridge No. 07-091-330, (Historic Bridges in South Dakota MPS), Cty Highway over State of South Dakota RR tracks, Aberdeen, 00000183

South Dakota Dept. of Transportation Bridge No. 07-220-454, (Historic Bridges in South Dakota MPS), Local Rd. over Mud Creek, Stratford, 00000184

South Dakota Dept. of Transportation Bridge No. 07-268-030, (Historic Bridges in South Dakota MPS), Local Rd. over James River, Hecal, 00000186

South Dakota Dept. of Transportation Bridge No. 07-304-414, (Historic Bridges in South Dakota MPS), Local Rd. over Ferney Ravine, Ferney, 00000187

TEXAS

Tarrant County

Arlington Post Office, 200 W. Main St., Arlington, 00000188

WASHINGTON

Walla Walla County

Whitehouse—Crawford Planing Mill, 212 N. 3rd Ave., Walla Walla, 00000189

WISCONSIN

Eau Claire County

Anderson, Brady and Waldermar Ager House, 514 W. Madison St., Eau Claire, 00000190

Due to Procedural Error a request for Removal has been made for the following resource:

NORTH CAROLINA

Mecklenburg County

McAuley Farm (Rural Mecklenburg County MPS), 10724 Alexanderana Rd., Charlotte vicinity 91000024

There has been a request for removal for the following resources:

SOUTH CAROLINA

Charleston County

Laurel Hill, Off US 17, McClellanville, 85002359

Cherokee County

Robbs House, (Gaffney MRA), 310 W. Burford St., Gaffney, 86000593

Sarratt House, (Gaffney MRA), 217 Marion St., Gaffney, 86000599

Victory Cotton Oil Company Complex, (Gaffney MRA), W side of Frederick St. between Hill and Johnson Sts., Gaffney, 86000596

West End Elementary School, (Gaffney MRA), Floyd Baker Blvd. And Broad St., Gaffney, 86000600

Florence County

Gregg, Dr. Benjamin, House, 315 S. Colt St., Florence, 78002508

Georgetown County

China Grove, SC 512, Georgetown vicinity, 82003851

Greenville County

Old Textile Hall, 322 W. Washington St., Greenville, 80003672

Lancaster County

Stewart-Sapp House, (Lancaster County MPS), SC 522 and SC 28, Tradesville vicinity, 90000097

Lexington County

George's Grist and Flour Mill, (Lexington County MRA), Gibson's Pond Rd., Lexington, 83003877

Newberry County

Stewart House, (Newberry MRA), 1001 Wilson St., Newberry, 80003685

Orangeburg County

Rocks Plantation, 7 mi. E of Eutawville off SC 6, Orangeburg vicinity, 76001709

Richland County

Zion Protestant Episcopal Church, (Lower Richland County MRA), SC 263, Eastover, 86000543

Spartanburg County

Franklin Hotel, 185 E. Main St., Spartanburg, 83002207

Williamsburg County

Black Mingo Baptist Church, SE of Nesmith, Nesmith vicinity, 80003713

[FR Doc. 00-3410 Filed 2-14-00; 8:45 am]

BILLING CODE 4310-70-P